ENVIRONMENTAL PROTECTION AGENCY

40 CFR Part 52

[MD124-3084; FRL-7085-1]

Approval and Promulgation of Air Quality Implementation Plans; Maryland; Control of Volatile Organic Compound Emissions from Distilled Spirits Facilities, Aerospace Coating Operations and Kraft Pulp Mills

AGENCY: Environmental Protection Agency (EPA).

ACTION: Final rule.

SUMMARY: EPA is approving State Implementation Plan (SIP) revisions submitted by the State of Maryland. These revisions establish reasonably available control technology (RACT) requirements to reduce emissions of volatile organic compounds (VOCs) from distilled spirits facilities, aerospace coating operations, and kraft pulp mills. The intended effect of this action is to approve three regulations that reduce VOC emissions from distilled spirits facilities, aerospace coating operations, and kraft pulp mills. This action is being taken under the Clean Air Act.

EFFECTIVE DATE: This final rule is effective on December 7, 2001.

ADDRESSES: Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and Maryland Department of the Environment, 2500 Broening Highway, Baltimore, Maryland, 21224.

FOR FURTHER INFORMATION CONTACT: Rose Quinto, (215) 814-2182 and Kristeen Gaffney, (215) 814-2092, or via e-mail at quinto.rose@epamail.epa.gov and gaffney.kristeen@epa.gov.

SUPPLEMENTARY INFORMATION:

I. Background

On July 2, 2001, the Maryland Department of Environment (MDE) requested that EPA parallel-process its approval of three proposed state regulations as revisions to the Maryland SIP. These regulations control VOC emissions from (1) distilled spirits facilities, COMAR 26.11.19.29, (2) aerospace coating operations, COMAR 26.11.19.13-1, and (3) kraft pulp mills, COMAR 26.11.14.01, 26.11.14.02 and 26.11.14.06. These regulations impose RACT requirements for the control of VOC emissions at affected facilities in Maryland. EPA published its notices of proposed rulemaking (NPRs) to approve the aerospace coating and kraft pulp mills regulations on August 24, 2001 (66 FR 44574), and the distilled spirits facilities regulation on August 27, 2001 (66 FR 44995), as revisions to the Maryland SIP.

EPA proposed approval of Maryland's proposed regulations under a procedure called parallel-processing, whereby EPA proposes rulemaking action concurrently with the state's procedures for amending and/or adopting its regulations. These regulations have now been fully adopted by Maryland and were formally submitted to EPA for approval into the Maryland SIP on October 5, 2001. The adopted regulations were not changed from the proposed versions submitted for parallel-processing. The specific requirements of Maryland's regulations to control VOC emissions from distilled spirits facilities, aerospace coating operations, and kraft pulp mills; and the rationale for EPA's proposed actions are explained in the NPRs and will not be restated here. No public comments were received on the NPR pertaining to aerospace coating operations. EPA did receive comments on the NPRs pertaining to kraft pulp mills and distilled spirits facilities. They are not adverse comments which oppose EPA's approval of Maryland's regulations, but rather comments that request to make certain clarifications in its final rulemaking.

II. Comments and Responses

Comment: EPA should make it clear that the terms and provisions of the kraft pulp mills and the distilled spirits facilities, for this rulemaking, only apply to the affected facilities in Maryland.

Response: The terms and provisions of the Maryland's RACT regulations to control VOC emissions from kraft pulp mills and distilled spirits facilities, only apply to the affected facilities located in Maryland, namely Westvaco's Luke Mill (for kraft pulp mills) and Seagram Americas (for the distilled spirits facilities), respectively.

Comment: It is not possible to control emissions of VOCs from aging houses from distilled spirits facilities.

Response: Neither the proposed nor adopted version of Maryland's RACT to control VOC emissions from distilled spirits facilities requires that VOCs be controlled from the aging warehouses. The Maryland regulation is not to be construed to mean that the required good operating practices manual extends to the aging process at the affected facility in Maryland. There are, however, other emission sources at the affected facility in Maryland where fugitive VOC emissions can be minimized. The requirements of Maryland's distilled spirits facilities regulation to minimize VOC emissions by implementing good operating practices at fugitive emission sources, other than the aging warehouses, is unique to the affected facility in Maryland.

III. Final Action

EPA is approving revisions submitted by the State of Maryland on October 5, 2001 pertaining to RACT requirements to reduce VOC from distilled spirits facilities, COMAR 26.11.19.29; aerospace coating operations, COMAR 26.11.19.13-1; and kraft pulp mills, COMAR 26.11.14.01, 26.11.14.02 and 26.11.14.06.

IV. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action, must be filed in the United States Court of Appeals for the appropriate circuit by January 7, 2002. Filing a petition for reconsideration by the Administrator of this final rule does not affect the finality of this rule for the purposes of judicial review nor does it extend the time within which a petition for judicial review may be filed, and shall not postpone the effectiveness of such rule or action. This action to approve Maryland's RACT regulations to control VOCs from distilled spirits facilities, aerospace coating operations, and kraft pulp mills, may not be challenged later in proceedings to enforce its requirements. (See section 307(b)(2).)

List of Subjects in 40 CFR Part 52

Environmental protection, Air pollution control, Hydrocarbons, Incorporation by reference, Ozone, Reporting and recordkeeping requirements.

Dated: October 9, 2001.
Donald S. Welsh,
Regional Administrator, Region III.

40 CFR part 52 is amended as follows:

PART 52—[AMENDED]

1. The authority citation for part 52 continues to read as follows:

Authority: 42 U.S.C. 7401 et seq.

Subpart V—Maryland

2. Section 52.1070 is amended by adding paragraphs (c)(160), (c)(169) and (c)(170) to read as follows:

§ 52.1070 Identification of plan.

* * * * *

(c) * * *

(160) Revisions to the Maryland Regulation, COMAR 26.11.19, Volatile Organic Compounds from Specific Processes, submitted on October 5, 2001 by the Maryland Department of the Environment.

(i) Incorporation by reference.

(A) Letter of October 5, 2001 from the Maryland Department of the Environment transmitting Maryland Regulation, COMAR 26.11.19.29, Control of Volatile Organic Compounds From Distilled Spirits Facilities.

(B) Additions of COMAR 26.11.19.29, Control of Volatile Organic Compounds From Distilled Spirits Facilities, adopted by the State of Maryland on September 11, 2000 and effective October 2, 2000.

(C) Revisions to COMAR 26.11.19.29, Control of Volatile Organic Compounds From Distilled Spirits Facilities, adopted by the State of Maryland on September 25, 2001 and effective October 15, 2001.

(ii) Additional Materials—Remainder of the State submittals pertaining to the revisions listed in paragraphs (c)(160)(i)(B) and (C) of this section.

* * * * *

(169) Revisions to the Maryland Regulation, COMAR 26.11.19, Volatile Organic Compounds from Specific Processes, submitted on October 5, 2001 by the Maryland Department of the Environment.

(i) Incorporation by reference.

(A) Letter of October 5, 2001 from the Maryland Department of the Environment transmitting Maryland Regulation, COMAR 26.11.19.13-1, Aerospace Coating Operations.

(B) Addition of COMAR 26.11.19.13-1, Aerospace Coating Operations, adopted by the State of Maryland on September 11, 2000 and effective October 2, 2000.

(C) Revisions to COMAR 26.11.19.13-1, Aerospace Coating Operations, adopted by the State of Maryland on September 25, 2001 and effective October 15, 2001.

(ii) Additional Materials—Remainder of the State submittals pertaining to the regulations listed in paragraphs (c)(169)(i)(B) and (C) of this section.

(170) Revisions to the Maryland Regulation, COMAR 26.11.14, Control of Emissions from Kraft Pulp Mills, submitted on October 5, 2001 by the Maryland Department of the Environment.

(i) Incorporation by reference.

(A) Letter of October 5, 2001 from the Maryland Department of the Environment transmitting Maryland Regulations COMAR 26.11.14.01, 26.11.14.02 and 26.11.14.06, Control of Emissions from Kraft Pulp Mills.

(B) Additions of COMAR 26.11.14.01, COMAR 26.11.14.02 and COMAR 26.11.14.06, Control of Emissions from Kraft Pulp Mills, adopted by the State of Maryland on December 13, 2000 and effective January 8, 2001.

(C) Revisions to COMAR 26.11.14.01 and COMAR 26.11.14.06, Control of Emissions from Kraft Pulp Mills, adopted by the State of Maryland on September 25, 2001 and effective October 15, 2001.

(ii) Additional Materials—Remainder of the State submittals pertaining to the revisions listed in paragraphs (c)(170)(i)(B) and (C) of this section.

[FR Doc. 01-27826 Filed 11-6-01; 8:45 am]

BILLING CODE 6560-50-P